DEPARTMENT OF HEALTH AND HUMAN SERVICES

National Institutes of Health

National Cancer Institute; amended Notice of Meeting

Notice is hereby given of a change in the meeting of the National Cancer Institute Special Emphasis Panel, March 5, 2007, 12 p.m. to March 5, 2007, 4 p.m. National Institutes of Health, 6130 Executive Boulevard, Rockville, MD 20852 which was published in the Federal Register on January 11, 2007, 72 FR1335.

The meeting notice is changed to reflect the date change from March 5, 2007 to April 13, 2007. The meeting is closed to the public.

Dated: April 5, 2007.
Anna Snouffer,
Deputy Director, Office of Federal Advisory Committee Policy.

[FR Doc. 07-1849 Filed 4-13-07; 8:45 am]

BILLING CODE 4140-01-M